DEPARTMENT OF COMMERCE

National Oceanic and Atmospheric Administration

RIN 0648-XF504

New England Fishery Management Council; Public Meeting; Correction

AGENCY: National Marine Fisheries Service (NMFS), National Oceanic and Atmospheric Administration (NOAA), Commerce.

ACTION: Notice; correction.

SUMMARY: The New England Fishery Management Council (Council) is scheduling a public meeting of its Research Steering Committee to consider actions affecting New England fisheries in the exclusive economic zone (EEZ). Recommendations from this group will be brought to the full Council for formal consideration and action, if appropriate.

DATES: This meeting will be held on Wednesday, July 19, 2017 at 9 a.m.

ADDRESSES:

Meeting address: The meeting will be held at the Holiday Inn, 700 Myles Standish Boulevard, Taunton, MA 02780; phone: (508) 823-0430.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The original noticed published in the Federal Register on June 29, 2017 (82 FR 29485). The notice stated that the meeting would begin at 9:30 a.m. This notice corrects the start time in the DATES section to begin at 9 a.m. All other information previously published remains the same.

Dated: June 30, 2017.
Tracey L. Thompson,
Acting Deputy Director, Office of Sustainable Fisheries, National Marine Fisheries Service.

[FR Doc. 2017-14152 Filed 7-5-17; 8:45 am]

BILLING CODE 3510-22-P